DEPARTMENT OF ENERGY

International Energy Agency Meetings

AGENCY: Department of Energy.

ACTION: Notice of meetings.

SUMMARY: The Industry Advisory Board (IAB) to the International Energy Agency (IEA) will meet on March 25 and 26, 2013, at the headquarters of the IEA in Paris, France in connection with a meeting of the IEA's Standing Group on Emergency Questions (SEQ), and on March 27, 2013, in connection with a joint meeting of the SEQ and the IEA's Standing Group on the Oil Market (SOM).

DATES: March 25-27, 2013.

ADDRESSES: 9, rue de la Fédération, Paris, France.

FOR FURTHER INFORMATION CONTACT: Diana D. Clark, Assistant General Counsel for International and National Security Programs, Department of Energy, 1000 Independence Avenue SW., Washington, DC 20585, 202-586-3417.

SUPPLEMENTARY INFORMATION: In accordance with section 252(c)(1)(A)(i) of the Energy Policy and Conservation Act (42 U.S.C. 6272(c)(1)(A)(i)) (EPCA), the following notice of meetings is provided:

Meetings of the Industry Advisory Board (IAB) to the International Energy Agency (IEA) will be held at the headquarters of the IEA, 9, rue de la Fédération, Paris, France, on March 25, 2013, beginning at 2:00 p.m., and continuing on March 26, 2013, at 9:30 a.m.; and on March 27, 2013, commencing at 9:30 a.m. The purpose of this notice is to permit attendance by representatives of U.S. company members of the IAB at a meeting of the IEA's Standing Group on Emergency Questions (SEQ) commencing at 2 p.m. on March 25 and continuing on March 26 commencing at 9:30 a.m., and at a joint meeting of the SEQ and the IEA's Standing Group on the Oil Markets (SOM) on March 27 commencing at 9:30 a.m. The IAB will also hold a preparatory meeting among company representatives at the same location at 8:30 a.m. on March 26. The agenda for this preparatory meeting is to review the agenda for the SEQ meeting.

The agenda of the SEQ meeting on March 25 and 26 is under the control of the SEQ. It is expected that the SEQ will adopt the following agenda:

1. Adoption of the Agenda

2. Approval of the Summary Record of the 137th Meeting

3. Status of Compliance With IEP Stockholding Commitments

4. Emergency Response Review Program

—Schedule of Emergency Response Reviews

—Questionnaire Response of Estonia

—Emergency Response Review of Turkey

—Emergency Response Review of Austria

—Emergency Response Review of the United States

—Emergency Response Review of Japan

5. Electricity Security

6. Emergency Response Exercise 6

—Evaluation of ERE6

7. Emergency Response Measures

—Costs and Benefits of Stockholding (Final Report)

8. Model of Short-Term Energy Security (MOSES)

9. Policy and Other Developments in Member Countries

—Mid-Term Emergency Response Review of Greece

—Mid-Term Emergency Response Review of New Zealand

10. Report From the Industry Advisory Board

11. Activities With International Organizations and Non-Member Countries

—China

—India

—Indonesia

—Thailand

12. Documents for Information

—Emergency Reserve and Net Import Situations of IEA Member Countries on October 1, 2012

—Emergency Reserve and Net Import Situations of IEA Member Countries on January 1, 2013

—Base Period Final Consumption: 3Q 2011-3Q 2012

—Base Period Final Consumption: 1Q2012-4Q 2012

—Updated Emergency Contacts List

—2012 Net Imports of IEA Member Countries

12. Other Business

—Tentative Schedule of Next Meetings:

—June 24 (pm)-26, 2013

—October 16-18, 2013

The agenda of the joint meeting of the SEQ and the SOM on March 27 is under the control of the SEQ and the SOM. It is expected that the SEQ and the SOM will adopt the following agenda:

1. Adoption of the Agenda

2. Approval of the Summary Record of the October 2012 Joint Session

3. Reports on Recent Oil Market and Policy Developments in IEA Countries

4. The Current Oil Market Situation

5. The North American Supply Revolution: Challenges Ahead

6. Understanding Chinese Apparent Oil Demand

7. Potential Implications of the European Refining Crisis

8. Middle East Energy Exports and the Arab Spring

9. The Turmoil in North Africa and the Oil Industry: The Case of Libya

10. Other Business

—Tentative schedule of upcoming SEQ and SOM meetings:

June 24 (pm)-26, 2013

October 16-October 18, 2013

As provided in section 252(c)(1)(A)(ii) of the Energy Policy and Conservation Act (42 U.S.C. 6272(c)(1)(A)(ii)), the meetings of the IAB are open to representatives of members of the IAB and their counsel; representatives of members of the IEA's Standing Group on Emergency Questions and the IEA's Standing Group on the Oil Markets; representatives of the Departments of Energy, Justice, and State, the Federal Trade Commission, the General Accounting Office, Committees of Congress, the IEA, and the European Commission; and invitees of the IAB, the SEQ, the SOM, or the IEA.

Issued in Washington, DC, March 12, 2013.
Diana D. Clark,
Assistant General Counsel for International and National Security Programs.

[FR Doc. 2013-06147 Filed 3-15-13; 8:45 am]

BILLING CODE 6450-01-P